FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than April 22, 2020.

A. Federal Reserve Bank of New York (Ivan Hurwitz, Senior Vice President) 33 Liberty Street, New York, New York 10045-0001. Comments can also be sent electronically to Comments.applications@ny.frb.org:

1. JGD III (J. Gordon Douglas, III) & DESC UA 8 A3 UW MB (Margaret Boegner) BGI Trust, Martha Phipps Maguire, trustee, both of New York, New York; Andrew P. Sidamon-Eristoff 2003 Grantor Retained Annuity Trust, Woodbridge, New Jersey, Martha Phipps Maguire, trustee; Elizabeth Sidamon-Eristoff 2003 Grantor Retained Annuity Trust, Woodbridge, New Jersey, Martha Phipps Maguire, trustee; and Simon Sidamon-Eristoff 2003 Grantor Retained Annuity Trust, Woodbridge, New Jersey, Martha Phipps Maguire, trustee; to acquire voting shares of Bessemer Group, Inc., and thereby indirectly acquire voting shares of Bessemer Trust Company, both of Woodbridge, New Jersey, and Bessemer Trust Company, N.A, New York, New York.

Board of Governors of the Federal Reserve System, April 2, 2020.
Yao-Chin Chao,
Assistant Secretary of the Board.

[FR Doc. 2020-07290 Filed 4-6-20; 8:45 am]

BILLING CODE P